ENVIRONMENTAL PROTECTION AGENCY

[FRL-7624-4]

Gulf of Mexico Program Citizens Advisory Committee Meeting

AGENCY: Environmental Protection Agency (EPA).

ACTION: Notice of meeting.

SUMMARY: Under the Federal Advisory Committee Act (Pub. L. 92-463), EPA gives notice of a meeting of the Gulf of Mexico Program (GMP) Citizens Advisory Committee (CAC).

DATES: The meeting will be held on Wednesday, March 17, 2004, from 8:30 a.m. to 3 p.m.

ADDRESSES: The meeting will be held at the Homewood Suites, 901 Poydras Street, New Orleans, LA 70130 (504-581-5599).

FOR FURTHER INFORMATION CONTACT: Gloria D. Car, Designated Federal Officer, Gulf of Mexico Program Office, Mail Code EPA/GMPO, Stennis Space Center, MS 39529-6000 at (228) 688-2421.

SUPPLEMENTARY INFORMATION: Proposed agenda is attached.

The meeting is open to the public.

Dated: February 9, 2004.
Gloria D. Car,
Designated Federal Officer.

Gulf of Mexico Program—Citizens Advisory Committee Meeting Agenda

Homewood Suites, 901 Poydras Street, New Orleans, LA 70130, (504) 581-5599.

Wednesday, March 17, 2004

8:30-8:45 Opening Remarks/Introductions, Brian Grantham, Chair

8:45-10:45 EPA Water Quality 101 Workshop, Marjan Peltier, EPA Region 4

10:45-11 Break

10-12:30 EPA Water Quality 101 Workshop Continued

12:30-1:45 Lunch

1:45-2:30 Bacterial Source Tracking Presentation, Dr. R.D. Ellender, University of Southern Mississippi

2:30-3:15 Louisiana Wetlands Resolution Update, Jean Westbrook, CAC, Women for a Better Louisiana

3:15-3:30 Break

3:30-4 Wrap-Up and Discussion

[FR Doc. 04-3454 Filed 2-17-04; 8:45 am]

BILLING CODE 6560-50-P